DEPARTMENT OF TRANSPORTATION

Federal Aviation Administration

Notice of Release From Federal Grant Assurance Obligations at Tucson International Airport, Tucson, Pima County, Arizona

AGENCY: Federal Aviation Administration, DOT.

ACTION: Notice of request to release airport land.

SUMMARY: The Federal Aviation Administration (FAA) proposes to rule and invites public comment on the application for a release of approximately 3 acres of airport property at Tucson International Airport, Tucson, Pima County, Arizona, from all conditions contained in the Grant Assurances since the parcel of land is not needed for airport purposes. The property will be sold for its fair market value and the proceeds used for airport purposes. The redevelopment of the land for roadway enhancements to property owned by the U. S. Air Force represents a compatible land use that will not interfere with the airport or its operation, thereby protecting the interests of civil aviation.

DATES: Comments must be received on or before October 13, 2016.

FOR FURTHER INFORMATION CONTACT: Comments on the request may be mailed to the FAA at the following address: Tony Garcia, Airports Compliance Program Manager, Federal Aviation Administration, Airports Division, Federal Register Comment, 15000 Aviation Blvd., Lawndale, CA 90261. In addition, one copy of the comment submitted to the FAA must be mailed to Mr. Eric Roudebush, Director of Environmental Services, Tucson Airport Authority, 7005 South Plumer Avenue, Tucson, Arizona 85756.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

Tucson Airport Authority requested a release from the conditions contained in the Grant Agreement Assurances for approximately 3 acres of airport land at Tucson International Airport. The property is located south of the airport on the southeast corner of the intersection of South Raytheon Parkway and the abandoned East Hughes Access Road. The area is mostly undeveloped arid land consisting of desert vegetation. The Airport Authority requested approval to sell the small parcel because the land is not needed for airport purposes presently or in the future. The sale price will be based on its appraised market value and the sale proceeds will be used for airport purposes. The property will be developed with roadway enhancements serving the adjacent U.S. Air Force property that will represent a compatible use and not interfere with airport operations. The mutual benefits will serve the interests of civil aviation.

Issued in Hawthorne, California on September 2, 2016.
Brian Q. Armstrong,
Manager, Safety and Standards Branch, Airports Division, Western-Pacific Region.

[FR Doc. 2016-21936 Filed 9-12-16; 8:45 am]

BILLING CODE 4910-13-P